DEPARTMENT OF HOMELAND SECURITY

Federal Emergency Management Agency

44 CFR Part 67

[Docket ID FEMA-2012-0003]

Final Flood Elevation Determinations

AGENCY: Federal Emergency Management Agency, DHS.

ACTION: Final rule.

SUMMARY: Base (1% annual-chance) Flood Elevations (BFEs) and modified BFEs are made final for the communities listed below. The BFEs and modified BFEs are the basis for the floodplain management measures that each community is required either to adopt or to show evidence of being already in effect in order to qualify or remain qualified for participation in the National Flood Insurance Program (NFIP).

DATES: The date of issuance of the Flood Insurance Rate Map (FIRM) showing BFEs and modified BFEs for each community. This date may be obtained by contacting the office where the maps are available for inspection as indicated in the table below.

ADDRESSES: The final BFEs for each community are available for inspection at the office of the Chief Executive Officer of each community. The respective addresses are listed in the table below.

FOR FURTHER INFORMATION CONTACT: Luis Rodriguez, Chief, Engineering Management Branch, Federal Insurance and Mitigation Administration, Federal Emergency Management Agency, 500 C Street SW., Washington, DC 20472, (202) 646-4064, or (email) Luis.Rodriguez3@fema.dhs.gov.

SUPPLEMENTARY INFORMATION: The Federal Emergency Management Agency (FEMA) makes the final determinations listed below for the modified BFEs for each community listed. These modified elevations have been published in newspapers of local circulation and ninety (90) days have elapsed since that publication. The Deputy Associate Administrator for Mitigation has resolved any appeals resulting from this notification.

This final rule is issued in accordance with section 110 of the Flood Disaster Protection Act of 1973, 42 U.S.C. 4104, and 44 CFR part 67. FEMA has developed criteria for floodplain management in floodprone areas in accordance with 44 CFR part 60.

Interested lessees and owners of real property are encouraged to review the proof Flood Insurance Study and FIRM available at the address cited below for each community.

The BFEs and modified BFEs are made final in the communities listed below. Elevations at selected locations in each community are shown.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132.

Executive Order 12988, Civil Justice Reform. This final rule meets the applicable standards of Executive Order 12988.

List of Subjects in 44 CFR Part 67

Administrative practice and procedure, Flood insurance, Reporting and recordkeeping requirements.

Accordingly, 44 CFR part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Flooding source(s) | Location of referenced elevation | * Elevation in feet (NGVD) + Elevation in feet (NAVD) # Depth in feet above ground ‸ Elevation in meters (MSL) modified | Communities affected
Shelby County, Alabama, and Incorporated Areas
Docket No.: FEMA-B-1233
Acton Creek | Approximately 0.78 mile downstream of Indian Valley Road | +428 | City of Hoover, Unincorporated Areas of Shelby County.
| Approximate 595 feet upstream of Caldwell Mill Road | +472
Beaverdam Creek | At the Cahaba River confluence | +394 | City of Helena, Unincorporated Areas of Shelby County.
| Approximately 775 feet downstream of County Road 17 | +424
Bishop Creek | At the downstream side of Industrial Park Drive | +423 | City of Helena, City of Pelham, Town of Indian Springs Village, Unincorporated Areas of Shelby County.
| Approximately 483 feet upstream of Surrey Lane | +525
Buck Creek | Approximately 800 feet upstream of U.S. Route 261 | +412 | City of Alabaster, City of Helena, City of Pelham, Unincorporated Areas of Shelby County.
| Approximately 0.9 mile upstream of County Road 340 | +567
Camp Creek (backwater effects from Kelly Creek) | Approximately 841 feet upstream of the Kelly Creek confluence | +439 | Unincorporated Areas of Shelby County.
| Approximately 0.7 mile upstream of the Kelly Creek confluence | +439
Coales Branch | At the upstream side of CSX Railroad Bridge | +444 | City of Pelham.
| Approximately 1,350 feet upstream of Dow Street | +494
Dodd Branch | Approximately 174 feet upstream of Lake Forest Circle | +421 | City of Hoover, City of Pelham, Unincorporated Areas of Shelby County.
| Approximately 730 feet upstream of Indian Lake Lane | +499
Dodd Branch Tributary 1 | Approximately 908 feet downstream of Baneberry Drive | +445 | City of Hoover, City of Pelham, Unincorporated Areas of Shelby County.
| Approximately 1,670 feet upstream of Indian Lake Way | +487
Dodd Branch Tributary 1.1 | At the downstream side of Stratshire Lane | +453 | City of Helena, City of Pelham.
| Approximately 413 feet upstream of Aaron Road | +485
Dry Creek I | Approximately 0.47 mile downstream of Fox Valley Farms Road | +422 | City of Alabaster, City of Helena, Unincorporated Areas of Shelby County.
| Approximately 531 feet downstream of Fox Valley Farms Road | +423
Hogpen Creek | At the upstream side of the railroad | +452 | City of Pelham, Unincorporated Areas of Shelby County.
| Approximately 1,390 feet upstream of Berry Lane | +510
Hurricane Creek (backwater effects from Cahaba River) | Approximately 0.75 mile downstream of County Road 13 | +381 | City of Helena, Unincorporated Areas of Shelby County.
| Approximately 0.8 mile upstream of County Road 13 | +381
Hurricane Creek I (backwater effects from Bear Creek) | Approximately 1,365 feet downstream of Rocky Hollow Lane | +464 | Unincorporated Areas of Shelby County.
| Approximately 416 feet upstream of Rocky Hollow Lane | +464
Ivy Branch (backwater effects from North Fork Yellowleaf Creek) | At the downstream side of County Road 280 (Old Highway 280) | +683 | City of Chelsea, Unincorporated Areas of Shelby County.
| Approximately 469 feet upstream of County Road 280 (Old Highway 280) | +683
Lee Branch | Approximately 884 feet upstream of Cahaba Valley Road | +553 | City of Birmingham, City of Hoover, Unincorporated Areas of Shelby County.
| Approximately 350 feet upstream of Hugh Daniel Drive | +608
Lee Brook | At the upstream side of County Road 95 | +417 | City of Helena.
| Approximately 965 feet upstream of Wynwood Drive | +477
Little Beeswax Creek | Approximately 0.86 mile downstream of County Road 28 | +405 | Unincorporated Areas of Shelby County.
| Approximately 0.52 mile upstream of County Road 61 | +463
North Fork Yellowleaf Creek | Approximately 0.9 mile downstream of U.S. Route 280 | +575 | City of Chelsea, Unincorporated Areas of Shelby County.
| Approximately 1.2 miles upstream of Highland Lakes Road | +783
North Fork Yellowleaf Creek Tributary I (backwater effects from North Fork Yellowleaf Creek) | At the North Fork Yellowleaf Creek confluence | +688 | City of Chelsea, Unincorporated Areas of Shelby County.
| Approximately 946 feet upstream of the North Fork Yellowleaf confluence | +688
Peavine Creek | Approximately 1,213 feet downstream of U.S. Route 31 | +441 | City of Alabaster, City of Pelham, Unincorporated Areas of Shelby County.
| Approximately 1.7 miles upstream of County Road 334 | +577
Poplar Branch (backwater effects from North Fork Yellowleaf Creek) | Approximately 138 feet upstream of U.S. Route 280 | +531 | City of Chelsea, Unincorporated Areas of Shelby County.
| Approximately 1,967 feet upstream of U.S. Route 280 | +531
Prairie Brook | At the downstream side of Railroad Avenue East | +416 | City of Helena.
| Approximately 0.45 mile upstream of County Road 95 | +425
Trigger Creek (backwater effects from North Fork Yellowleaf Creek) | Approximately 1,024 feet downstream of County Road 13 | +399 | City of Hoover, Unincorporated Areas of Shelby County.
| Approximately 1.02 miles upstream of County Road 13 | +399
Wolf Creek I (backwater effects from Kelly Creek) | Approximately 0.45 mile upstream of the Kelly Creek confluence | +456 | Unincorporated Areas of Shelby County.
| Approximately 0.66 mile upstream of the Kelly Creek confluence | +456
Yellowleaf Creek Tributary 1 (backwater effects from North Fork Yellowleaf Creek) | Approximately 0.91 mile upstream of the Yellowleaf Creek confluence | +456 | City of Chelsea, Unincorporated Areas of Shelby County.
| Approximately 1.33 miles upstream of the Yellowleaf Creek confluence | +456
* National Geodetic Vertical Datum.
+ North American Vertical Datum.
# Depth in feet above ground.
‸ Mean Sea Level, rounded to the nearest 0.1 meter.
ADDRESSES
City of Alabaster
Maps are available for inspection at 201 1st Street North, Alabaster, AL 35007.
City of Birmingham
Maps are available for inspection at 710 20th Street North, Birmingham, AL 35203.
City of Chelsea
Maps are available for inspection at 11611 Chelsea Road, Chelsea, AL 35043.
City of Helena
Maps are available for inspection at 816 State Route 82, Helena, AL 35080.
City of Hoover
Maps are available for inspection at 100 Municipal Drive, Hoover, AL 35216.
City of Pelham
Maps are available for inspection at 3162 Pelham Parkway, Pelham, AL 35124.
Town of Indian Springs Village
Maps are available for inspection at 2635 Cahaba Valley Road, Indian Springs, AL 35124.
Unincorporated Areas of Shelby County
Maps are available for inspection at 200 West College Street, Columbiana, AL 35051.
Henderson County, Kentucky, and Incorporated Areas
Docket No.: FEMA-B-1007
Canoe Creek | At the upstream side of U.S. Route 41 | +376 | City of Henderson, Unincorporated Areas of Henderson County.
| At the Elam Ditch confluence | +383
Canoe Creek Tributary 1 (backwater effects from Ohio River) | From approximately 500 feet upstream of the Canoe Creek confluence to approximately 900 feet upstream of KY-136 | +376 | City of Henderson, Unincorporated Areas of Henderson County.
Cash Creek (backwater effects from Ohio River) | From the Green River confluence to approximately 800 feet upstream of Griffin and Griffin Road | +386 | Unincorporated Areas of Henderson County.
Elam Ditch | At the Canoe Creek confluence | +383 | Unincorporated Areas of Henderson County.
| At Airline Road (KY-812) | +393
Elam Ditch Tributary 1 | At the Elam Ditch confluence | +384 | Unincorporated Areas of Henderson County.
| Approximately 1,250 feet downstream of Toy Anthoston Road (KY-2677) | +395
Elam Ditch Tributary 1.1 (backwater effects from Elam Ditch Tributary 1) | From the Elam Ditch Tributary 1 confluence to approximately 1,200 feet upstream of the Elam Ditch Tributary 1 confluence | +384 | Unincorporated Areas of Henderson County.
Elam Ditch Tributary 2 | At the Elam Ditch confluence | +384 | Unincorporated Areas of Henderson County.
| At the downstream side of Airline Road (KY-812) | +395
Elam Ditch Tributary 3 | At the Elam Ditch confluence | +384 | Unincorporated Areas of Henderson County.
| At the downstream side of Toy Anthoston Road | +389
Elam Ditch Tributary 4 (backwater effects from Elam Ditch) | From the Elam Ditch confluence to approximately 0.5 mile upstream of the Elam Ditch confluence | +383 | Unincorporated Areas of Henderson County.
Elam Ditch Tributary 8 (backwater effects from Elam Ditch) | From the Elam Ditch confluence to approximately 1,100 feet upstream of the Elam Ditch confluence | +393 | Unincorporated Areas of Henderson County.
Grane Creek (backwater effects from Ohio River) | From approximately 1,200 feet downstream of Quinns Landing Road to approximately 1.0 mile upstream of Quinns Landing Road | +386 | Unincorporated Areas of Henderson County.
Grane Creek Tributary 1 (backwater effects from Ohio River) | From approximately 0.2 mile downstream of Quinns Landing Road to the upstream side of Quinns Landing Road | +386 | Unincorporated Areas of Henderson County.
Grane Creek Tributary 5 (backwater effects from Ohio River) | From the Grane Creek confluence to approximately 1,800 feet upstream of the Grane Creek confluence | +386 | City of Robards, Unincorporated Areas of Henderson County.
Kimsey Lane Left Tributary | At the North Fork Canoe Creek confluence | +388 | City of Henderson, Unincorporated Areas of Henderson County.
| Approximately 750 feet upstream of Van Wyk Road | +388
Kimsey Lane Right Tributary | At the North Fork Canoe Creek confluence | +388 | City of Henderson, Unincorporated Areas of Henderson County.
| At Kinsey Lane (KY-6112) | +388
Lick Creek (backwater effects from Ohio River) | From the upstream side of Sportsville-Bluff City Road to approximately 1.1 miles downstream of Zion Road | +383 | Unincorporated Areas of Henderson County.
Lick Creek Tributary 2 (backwater effects from Ohio River) | From the Lick Creek confluence to the downstream side of Zion Road | +383 | Unincorporated Areas of Henderson County.
Lick Creek Tributary 2.1 (backwater effects from Ohio River) | From the Lick Creek Tributary 2 confluence to approximately 1,600 feet upstream of the Lick Creek Tributary 2 confluence | +383 | Unincorporated Areas of Henderson County.
Lick Creek Tributary 4 (backwater effects from Ohio River) | From the Lick Creek confluence to approximately 0.9 mile upstream of the Lick Creek confluence | +383 | Unincorporated Areas of Henderson County.
Middle Canoe Creek | At the Sellers Ditch confluence | +382 | City of Henderson, Unincorporated Areas of Henderson County.
| At the Elam Ditch confluence | +382
North Fork Canoe Creek | At the Canoe Creek confluence | +382 | City of Henderson, Unincorporated Areas of Henderson County.
| Approximately 4,000 feet upstream of Kimsey Lane (KY-6112) | +389
Ohio River | Approximately 2.4 miles upstream of the northwest county boundary (at River Mile Marker 829.7) | +372 | City of Henderson, Unincorporated Areas of Henderson County.
| Approximately 5.0 miles upstream of the northeast county boundary (at River Mile Marker 766.5) | +386
Old Knoblick Road Creek (backwater effects from Ohio River) | From approximately 0.6 mile downstream of Knoblick Road to approximately 800 feet downstream of Knoblick Road | +386 | Unincorporated Areas of Henderson County.
Pond Creek (overflow effects from Ohio River) | At the downstream side of Gray-Aldridge Road | +372 | Unincorporated Areas of Henderson County.
| Approximately 0.9 mile upstream of Martin and Martin Road | +373
Pond Creek Tributary 6 (overflow effects from Ohio River) | At the Pond Creek confluence | +373 | Unincorporated Areas of Henderson County.
| Approximately 600 feet downstream of KY-268 | +374
Race Creek (backwater effects from Ohio River) | From the Green River confluence to approximately 200 feet upstream of KY-1078 | +381 | Unincorporated Areas of Henderson County.
Sellers Ditch | At the Canoe Creek confluence | +376 | Unincorporated Areas of Henderson County.
| Approximately 200 feet upstream of Old Madison Road | +382
Sputzman Creek (backwater effects from Ohio River) | From approximately 0.8 mile upstream of the Green River confluence to approximately 2.0 miles upstream of the Green River confluence | +386 | Unincorporated Areas of Henderson County.
Sputzman Creek Tributary 1 (backwater effects from Ohio River) | From the Sputzman Creek confluence to approximately 1.2 miles upstream of the Sputzman Creek confluence | +386 | Unincorporated Areas of Henderson County.
Sputzman Creek Tributary 2 (backwater effects from Ohio River) | From the Sputzman Creek confluence to approximately 0.6 mile upstream of Sputzman Creek | +386 | Unincorporated Areas of Henderson County.
Sugar Creek (backwater effects from Ohio River) | From the Ohio River confluence to approximately 1,700 feet upstream of the Ohio River confluence | +376 | City of Henderson.
Tiger Ditch (formerly Highway 812 Tributary) | At the North Fork Canoe Creek confluence | +382 | City of Henderson, Unincorporated Areas of Henderson County.
| Approximately 150 feet downstream of Zion Road | +391
Tiger Ditch Tributary 1 | At the Tiger Ditch (formerly Highway 812 Tributary) confluence | +385 | City of Henderson, Unincorporated Areas of Henderson County.
| At the downstream side of Adams Lane | +390
Upper Canoe Creek | At the Sellers Ditch confluence | +382 | Unincorporated Areas of Henderson County.
| Approximately 3,800 feet upstream of the East Fork Canoe Creek confluence | +385
* National Geodetic Vertical Datum.
+ North American Vertical Datum.
# Depth in feet above ground.
‸ Mean Sea Level, rounded to the nearest 0.1 meter.
ADDRESSES
City of Henderson
Maps are available for inspection at 222 1st Street, Henderson, KY 42419.
City of Robards
Maps are available for inspection at 20 North Main Street, Henderson, KY 42420.
Unincorporated Areas of Henderson County
Maps are available for inspection at 20 North Main Street, Henderson, KY 42420.
Coos County, New Hampshire (All Jurisdictions)
Docket No.: FEMA-B-1213
Androscoggin River | Approximately 3.5 miles downstream of Meadow Road | +691 | City of Berlin, Town of Dummer, Town of Errol, Town of Gorham, Town of Milan, Town of Shelburne, Unincorporated Areas of Coos County.
| At the downstream side of Umbagog Lake Dam | +1231
Clear Stream | At the Androscoggin River confluence | +1222 | Town of Errol.
| Approximately 1.1 miles upstream of White Mountain Highway | +1227
Clement Brook | At the Androscoggin River confluence | +700 | Town of Shelburne.
| Approximately 0.7 mile upstream of U.S. Route 2 | ++752
Connecticut River | Approximately 0.8 mile downstream of Janice Peaslee Bridge (formerly Maidstone-Stratford Hollow Bridge) | +865 | Town of Stratford.
| Approximately 1,180 feet downstream of Janice Peaslee Bridge (formerly Maidston-Stratford Hollow Bridge) | +865
Connecticut River | Approximately 2.1 miles upstream of State Route 105 | +932 | Town of Clarksville, Town of Colebrook, Town of Columbia, Town of Stewartstown.
| Approximately 0.6 mile downstream of U.S. Route 3 | +1106
Dead River | At the Androscoggin River confluence | +950 | City of Berlin.
| Approximately 0.4 mile upstream of Hillside Avenue | +1049
Greenough Brook | At the Androscoggin River confluence | +1226 | Town of Errol.
| At the downstream side of the Akers Pond Dam | +1230
Moose Brook | At the Androscoggin River confluence | +793 | Town of Gorham.
| Approximately 840 feet upstream of Jimtown Road | +1128
Moose Brook Split | At the Moose Brook confluence | +924 | Town of Gorham.
| At the Moose Brook divergence | +937
Moose River | At the Androscoggin River confluence | +787 | Town of Gorham.
| Approximately 0.4 mile upstream of Main Street | +830
Peabody River | At the Androscoggin River confluence | +755 | Town of Gorham, Town of Shelburne.
| Approximately 1.8 miles upstream of Glen Road | +1060
Tinker Brook | At the Androscoggin River confluence | +842 | Town of Gorham.
| Approximately 0.9 mile upstream of Main Street | +1206
* National Geodetic Vertical Datum.
+ North American Vertical Datum.
# Depth in feet above ground.
‸ Mean Sea Level, rounded to the nearest 0.1 meter.
ADDRESSES
City of Berlin
Maps are available for inspection at City Hall, 168 Main Street, Berlin, NH 03570.
Town of Clarksville
Maps are available for inspection at the Town Office, 408 New Hampshire Route 145, Clarksville, NH 03592.
Town of Colebrook
Maps are available for inspection at the Town Hall, 17 Bridge Street, Colebrook, NH 03576.
Town of Columbia
Maps are available for inspection at the Town Hall, 1679 U.S. Route 3. Columbia, NH 03576.
Town of Dummer
Maps are available for inspection at the Town Office, 75 Hill Road, Dummer, NH 03588.
Town of Errol
Maps are available for inspection at the Selectmen's Office, 33 Main Street, Errol, NH 03579.
Town of Gorham
Maps are available for inspection at the Town Hall, 20 Park Street, Gorham, NH 03581.
Town of Milan
Maps are available for inspection at the Municipal Building, 20 Bridge Street, Milan, NH 03588.
Town of Shelburne
Maps are available for inspection at the Town Hall, 74 Village Road, Shelburne, NH 03581.
Town of Stewartstown
Maps are available for inspection at the Stewartstown Town Clerk's Office, 888 Washington Street, West Stewartstown, NH 03597.
Town of Stratford
Maps are available for inspection at the Town Hall, 10 Town Common Road, Stratford, NH 03590.
Unincorporated Areas of Coos County
Maps are available for inspection at the Coos County Commissioner's Office, 136 County Farm Road, West Stewartstown, NH 03597.
Cleveland County, Oklahoma, and Incorporated Areas
Docket No.: FEMA-B-1233
Dave Blue Creek | At the downstream side of North Main Street | +1118 | City of Noble, City of Norman.
| Approximately 0.4 mile upstream of Post Oak Road | +1177
Little River | Approximately 600 feet downstream of 12th Avenue Northeast | +1097 | City of Moore, City of Norman.
| Approximately 1.0 mile downstream of Southwest 34th Street | +1159
Stream E (backwater effects from Little River) | At the Little River confluence | +1159 | City of Moore, City of Norman.
| Approximately 1,480 feet upstream of the Little River confluence | +1159
Stream E | Approximately 0.42 mile downstream of Southwest 19th Street | +1191 | City of Moore.
| Approximately 60 feet downstream of Southwest 4th Street | +1226
Tributary 1 to Unnamed Tributary to Cow Creek Tributary 2 North Branch (backwater effects from Unnamed Tributary to Cow Creek Tributary 2 North Branch) | At the Unnamed Tributary to Cow Creek Tributary 2 North Branch confluence | +1236 | City of Oklahoma City.
| Approximately 660 feet upstream of the Unnamed Tributary to Cow Creek Tributary 2 North Branch confluence | +1236
Tributary 3 of Canadian River Tributary 1 | Approximately 800 feet downstream of Southwest 119th Street | +1198 | City of Oklahoma City.
| Approximately 250 feet downstream of Southwest 106th Street | +1239
Tributary A to Tributary 3 of Canadian River Tributary 1 (backwater effects from Tributary 3 of Canadian River Tributary 1) | At the Tributary 3 of Canadian River Tributary 1 confluence | +1233 | City of Oklahoma City.
| Approximately 1,080 feet upstream of the Tributary 3 of Canadian River Tributary 1 confluence | +1233
Tributary B to Tributary 3 of Canadian River Tributary 1 (backwater effects from Tributary 3 of Canadian River Tributary 1) | At the Tributary 3 of Canadian River Tributary 1 confluence | +1211 | City of Oklahoma City.
| Approximately 1,100 feet upstream of the Tributary 3 of Canadian River Tributary 1 confluence | +1211
Unnamed Tributary to Cow Creek Tributary 2 North Branch | Approximately 240 feet upstream of the Cow Creek Tributary 2 North Branch confluence | +1224 | City of Oklahoma City.
| Approximately 0.8 mile upstream of the Cow Creek Tributary 2 North Branch confluence | +1240
Unnamed Tributary to Little River | At the Little River confluence | +1150 | City of Moore, City of Norman.
| Approximately 300 feet upstream of Southwest 34th Street | +1185
* National Geodetic Vertical Datum.
+ North American Vertical Datum.
# Depth in feet above ground.
‸ Mean Sea Level, rounded to the nearest 0.1 meter.
ADDRESSES
City of Moore
Maps are available for inspection at City Hall, 301 North Broadway, Moore, OK 73160.
City of Noble
Maps are available for inspection at City Hall, 304 South Main Street, Noble, OK 73068.
City of Norman
Maps are available for inspection at City Hall, 201 West Gray Street, Building A, Norman, OK 73069.
City of Oklahoma City
Maps are available for inspection at the Public Works Department, 420 West Main Street, Suite 700, Oklahoma City, OK 73102.

(Catalog of Federal Domestic Assistance No. 97.022, “Flood Insurance.”)

James A. Walke,
Acting Deputy Associate Administrator for Mitigation, Department of Homeland Security, Federal Emergency Management Agency.

[FR Doc. 2012-31394 Filed 12-28-12; 8:45 am]

BILLING CODE 9110-12-P